DEPARTMENT OF THE INTERIOR

Fish and Wildlife Service

Proposed Low Effect Habitat Conservation Plan for George Shimboff, Solano County, California

AGENCY: Fish and Wildlife Service, Interior.

ACTION: Notice of availability.

SUMMARY: Mr. George Shimboff (Applicant) has applied to the U.S. Fish and Wildlife Service (we, Service) for a 1-year incidental take permit for one covered species pursuant to section 10(a)(1)(B) of the Endangered Species Act of 1973, as amended (Act). The application addresses the potential for “take” of the threatened valley elderberry longhorn beetle (Desmoncerus californicus dimorphus) associated with construction of a swimming pool and perimeter fence, removal of an interior fence, and landscaping within the remaining area of a 0.16-acre partially developed parcel located on Christine Drive, Vacaville, Solano County, California. A conservation program to minimize and mitigate for the project activities would be implemented as described in the proposed Shimboff Low Effect Habitat Conservation Plan (proposed Plan), which would be implemented by the Applicant.

We are requesting comments on the permit application and on the preliminary determination that the proposed Plan qualifies as a “Low-effect” Habitat Conservation Plan, eligible for a categorical exclusion under the National Environmental Policy Act (NEPA) of 1969, as amended. The basis for this determination is discussed in the Environmental Action Statement (EAS), which is also available for public review.

DATES: Written comments should be received on or before September 15, 2003.

ADDRESSES: Comments should be addressed to the Field Supervisor, Fish and Wildlife Service, Sacramento Fish and Wildlife Office, 2800 Cottage Way, W-2605, Sacramento, California 95825. Written comments may be sent by facsimile to (916) 414-6711.

FOR FURTHER INFORMATION CONTACT: Ms. Laura Valoppi, Conservation Planning Branch, Sacramento Fish and Wildlife Office (see ADDRESSES); telephone: (916) 414-6600.

SUPPLEMENTARY INFORMATION:

Availability of Documents

Individuals wishing copies of the application, proposed Plan, and EAS should immediately contact the Service by telephone at (916) 414-6600 or by letter to the Sacramento Fish and Wildlife Office. Copies of the proposed Plan and EAS also are available for public inspection during regular business hours at the Sacramento Fish and Wildlife Office (see ADDRESSES).

Background

Section 9 of the Act and its implementing Federal regulations prohibit the take of animal species listed as endangered or threatened. Take is defined under the Act as harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32

The Applicant is seeking a permit for take of the valley elderberry longhorn beetle during the life of the permit. This species is referred to as the “covered species” in the proposed Plan.

The project encompasses construction of a swimming pool and new perimeter fence, removal of an existing interior fence, and landscaping of the remaining area within the 0.16-acre project site. The resident elderberry shrub would be removed to accommodate the new swimming pool, fencing, and landscaping. The project site contains habitat (e.g., elderberry shrubs) for the federally threatened valley elderberry longhorn beetle, although no evidence of use by the valley elderberry longhorn beetle has been detected. Construction of the proposed project would result in the removal of one elderberry shrub, with two stems greater than 1 inch in diameter at ground level, which have been determined to be habitat for the beetle. The project site does not contain any other rare, threatened, or endangered species or habitat. No critical habitat for any listed species occurs on the project site.

The Applicant proposes to minimize and mitigate the effects to the covered species associated with the covered activities by fully implementing the Plan. The purpose of the proposed Plan's conservation program is to promote the biological conservation of the valley elderberry longhorn beetle. The Applicant will minimize and mitigate the impacts of taking the valley elderberry longhorn beetle by removing the single elderberry shrub that is currently on the project site and by purchasing two credits at a Service-approved conservation bank. Each credit includes an established ratio of elderberry seedlings and native riparian plant seedlings.

The Proposed Action consists of the issuance of an incidental take permit and implementation of the proposed Plan, which includes measures to minimize and mitigate impacts of the project on the valley elderberry longhorn beetle. Three alternatives to the taking of the listed species under the Proposed Action are considered in the proposed Plan. Under the No Action Alternative, no permit would be issued and no construction or landscaping would occur. Under the Reduced Take Alternative #1, the elderberry shrub would remain onsite and activities would be modified. Under the Reduced Take Alternative #2, the elderberry shrub would remain onsite and be incorporated within the landscaping. Stems under 5 inches in diameter would be removed and the remaining stem would be pruned.

The Service has made a preliminary determination that approval of the Proposed Plan qualifies as a categorical exclusion under NEPA, as provided by the Department of the Interior Manual (516 DM 2, Appendix 1 and 516 DM 6, Appendix 1) and as a “low-effect” plan as defined by the Habitat Conservation Planning Handbook (November 1996). Determination of Low-effect Habitat Conservation Plans is based on the following three criteria: (1) Implementation of the proposed Plan would result in minor or negligible effects on federally listed, proposed, and candidate species and their habitats; (2) implementation of the proposed Plan would result in minor or negligible effects on other environmental values or resources; and (3) impacts of the proposed Plan, considered together with the impacts of other past, present and reasonably foreseeable similarly situated projects would not result, over time, in cumulative effects to environmental values or resources which would be considered significant.

Based upon this preliminary determination, we do not intend to prepare further NEPA documentation. We will consider public comments in making the final determination on whether to prepare such additional documentation.

This notice is provided pursuant to section 10(c) of the Act. We will evaluate the permit application, the proposed Plan, and comments submitted thereon to determine whether the application meets the requirements of section 10(a) of the Act. If the requirements are met, we will issue a permit to Mr. George Shimboff for the incidental take of the valley elderberry longhorn beetle from development of the Applicant's parcel on Christine Drive, Vacaville, California.

Dated: August 8, 2003.
Catrina M. Martin,
Acting Deputy Manager, California/Nevada Operations Office, Sacramento, California.

[FR Doc. 03-20790 Filed 8-13-03; 8:45 am]

BILLING CODE 4310-55-P